MORRIS K. UDALL AND STEWART L. UDALL FOUNDATION

Sunshine Act Meetings

TIME AND DATE: Electronic meeting of the Board of Trustees to be held via telephone 9:00 a.m. to 10:00 a.m. (PST—Pacific Standard Time), Tuesday, February 12, 2019. (This meeting was publicly noticed on the Morris K. Udall and Stewart L. Udall Foundation's website on Tuesday, January 29, 2019.)

PLACE: Board of Trustees Meeting held via telephone.

STATUS: This special meeting of the Board of Trustees, to be held electronically (in accordance with the Operating Procedures of the Udall Foundation's Board of Trustees), will be open to the public, unless it is necessary for the Board to consider items in Executive Session. Members of the public who would like to participate in the open session of this special meeting of the Board of Trustees should email Marc Rosen, General Counsel, Morris K. Udall and Stewart L. Udall Foundation, at rosen@udall.gov.

MATTERS TO BE CONSIDERED: (1) Vote to go into Executive Session to discuss matters 2-4; (2) Create the position of Acting Executive Director of the Morris K. Udall and Stewart L. Udall Foundation; (3) Discuss candidates for and select the Acting Executive Director; and (4) Establish the entire Board of Trustees as the final Interview and Selection Panel for the Morris K. Udall and Stewart L. Udall Foundation Executive Director Search.

PORTIONS OPEN TO THE PUBLIC: The vote to go into Executive Session to discuss matters 2-4 above.

PORTIONS CLOSED TO THE PUBLIC: Executive Session to discuss matters 2-4 above.

CONTACT PERSON FOR MORE INFORMATION: Philip J. Lemanski, Executive Director, 130 South Scott Avenue, Tucson, AZ 85701, (520) 901-8500.

Dated: January 30, 2019.
Elizabeth E. Monroe,
Executive Assistant, Morris K. Udall and Stewart L. Udall Foundation, and Federal Register Liaison Officer.

[FR Doc. 2019-00875 Filed 1-30-19; 4:15 pm]

BILLING CODE 6820-FN-P